DEPARTMENT OF COMMERCE

National Oceanic and Atmospheric Administration

RIN 0648-XV33

Endangered Species; File No. 14949

AGENCY: National Marine Fisheries Service (NMFS), National Oceanic and Atmospheric Administration (NOAA), Commerce.

ACTION: Notice; receipt of application.

SUMMARY: Notice is hereby given that Carlos Diez, Bureau of Fisheries and Wildlife, San Juan, PR 00906-6600, has applied in due form for a permit to take hawksbill (Eretmochelys imbricata) and green (Chelonia mydas) sea turtles for purposes of scientific research.

DATES: Written, telefaxed, or e-mail comments must be received on or before April 21, 2010.

ADDRESSES: The application and related documents are available for review by selecting “Records Open for Public Comment” from the Features box on the Applications and Permits for Protected Species (APPS) home page, https://apps.nmfs.noaa.gov/, and then selecting File No. 14949 from the list of available applications. These documents are also available for review upon written request or by appointment in the following office(s):

Permits, Conservation and Education Division, Office of Protected Resources, NMFS, 1315 East-West Highway, Room 13705, Silver Spring, MD 20910; phone (301) 713-2289; fax (301) 713-0376; and

Southeast Region, NMFS, 263 13th Avenue South, St. Petersburg, FL 33701; phone (727) 824-5312; fax (727) 824-5309.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301) 713-0376, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 14949.

FOR FURTHER INFORMATION CONTACT: Kate Swails or Carrie Hubard (301) 713-2289.

SUPPLEMENTARY INFORMATION: The subject permit is requested under the authority of the Endangered Species Act of 1973, as amended (ESA; 16 U.S.C. 1531 et seq.) and the regulations governing the taking, importing, and exporting of endangered and threatened species (50 CFR 222-226).

The purpose of the research is to provide information on the ecology and population dynamics of hawksbill and green turtles inhabiting the waters surrounding Puerto Rico and the adjacent islands including Mona, Monito, Desecheo, Caja-de-Muertos, Vieques, the Culebra Archipelago, and the Tres Palmas reserve. In addition, researchers would monitor the prevalence of fibropapillomatosis, a debilitating disease know to occur in green turtle foraging aggregations in Puerto Rico. Researchers would annually capture up to 320 hawksbill and 252 green sea turtles by hand or entanglement net. Turtles would be measured, weighed, tagged, and blood or skin biopsy sampled. A subset of up to 10 hawksbill and 10 green sea turtles per year would be satellite tagged. A subset of up to 10 green turtles per year from the Culebra study sites may undergo fibropapillomatosis tumor removal surgery and subsequent rehabilitation.

In the case of a green turtle evidencing severe internal tumors, the turtle may be euthanized; this is not expected to apply to more than 2 turtles per year. The permit is requested for 5 years.

Dated: March 16, 2010.
P. Michael Payne,
Chief, Permits, Conservation and Education Division, Office of Protected Resources, National Marine Fisheries Service.

[FR Doc. 2010-6250 Filed 3-19-10; 8:45 am]

BILLING CODE 3510-22-S